DEPARTMENT OF THE INTERIOR

National Park Service

[NPS-AKR-GAAR-14160; PPAKAKROR4] [PPMPRLE1Y.LS0000]

Gates of the Arctic National Park Subsistence Resource Commission Meeting

AGENCY: National Park Service, Interior.

ACTION: Meeting notice.

SUMMARY: As required by the Federal Advisory Committee Act (5 U.S.C. Appendix 1-16), the National Park Service (NPS) is hereby giving notice that the Gates of the Arctic National Park Subsistence Resource Commission (SRC) will hold a meeting to develop and continue work on NPS subsistence program recommendations and other related subsistence management issues. The NPS SRC program is authorized under Title VIII, Section 808 of the Alaska National Interest Lands Conservation Act, Public Law 96-487.

DATES: The Gates of the Arctic National Park SRC will meet from 9:00 a.m. to 5:00 p.m. or until business is completed on Tuesday, November 5, 2013 to Wednesday, November 6, 2013.

ADDRESSES: The SRC will meet at the Gates of the Arctic National Park and Preserve office located at 4175 Geist in Fairbanks, Alaska. For more detailed information regarding this meeting, contact Designated Federal Official Greg Dudgeon, Superintendent, at (907) 457-5752; or Clarence Summers, Subsistence Manager, at (907) 644-3603. If you are interested in applying for SRC membership, contact the Superintendent or visit the park Web site at: http://www.nps.gov.gaar/contacts.htm.

SRC Proposed Meeting Agenda

The proposed meeting agenda for each meeting includes the following:

1. Call to Order—Confirm Quorum

2. Welcome and Introduction

3. Review and Adoption of Agenda

4. Approval of Minutes

5. Welcome by Local Community

6. Superintendent's Welcome and Review of the Commission Purpose

7. Commission Membership Status

8. SRC Chair and Members' Reports

9. Superintendent's Report

10. Old Business

11. New Business

12. Federal Subsistence Board Update

13. Alaska Boards of Fish and Game Update

14. National Park Service Reports

a. Ranger Update

b. Resource Management Update

c. Subsistence Manager's Report

15. Public and Other Agency Comments

16. Work Session

17. Set Tentative Date and Location for Next SRC Meeting

18. Adjourn Meeting

SRC meeting locations and dates may change based on inclement weather or exceptional circumstances. If the meeting date and location are changed, the Superintendent will issue a press release and use local newspapers and radio stations to announce the meeting.

SUPPLEMENTARY INFORMATION: This meeting is open to the public and will have time allocated for public testimony. The public is welcome to present written or oral comments to the SRC. The meeting will be recorded and meeting minutes will be available upon request from the Park Superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

Dated: October 24, 2013.
Alma Ripps,
Chief, Office of Policy.

[FR Doc. 2013-25634 Filed 10-25-13; 11:15 am]

BILLING CODE 4312-EF-P